DEPARTMENT OF THE INTERIOR

Fish and Wildlife Service

Habitat Conservation Plan, Town of Marana, AZ

AGENCY: Fish and Wildlife Service, Interior.

ACTION: Notice of intent to prepare an environmental impact statement (EIS); announcement of public scoping meeting; request for comments.

SUMMARY: We, the U.S. Fish and Wildlife Service (Service), advise the public that we intend to prepare an EIS to evaluate the impacts of, and alternatives to, the proposed issuance of an incidental take permit (ITP), pursuant to section 10(a)(1)(B) of the Endangered Species Act of 1973 (Act), as amended, to the Town of Marana (Applicant), in Pima County, Arizona. The Town of Marana intends to apply for an ITP through the development and implementation of a Habitat Conservation Plan (HCP), as required by the Act. We also announce a public scoping meeting and public comment period.

DATES: We must receive written comments on alternatives and issues to be addressed in the EIS on August 20, 2007. We will hold public scoping meetings on July 9, 2007 from 6 p.m. to 8 p.m. at the Marana Operations Center (5100 W. Ina Road, Tucson, Arizona, 85743), July 11, 2007 from 6 p.m. to 8 p.m. at the Marana Municipal Complex (11555 W. Civic Center Dr., Marana, Arizona, 85653), and on July 24, 2007 from 6 p.m. to 8 p.m. at the Marana Municipal Complex. We will accept written comments at these meetings.

ADDRESSES: Written comments should be sent to Mr. Steven L. Spangle, Field Supervisor, U.S. Fish and Wildlife Service, 2321 West Royal Palm Road, Suite 103, Phoenix, AZ 85021.

Public Availability of Comments

Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: For further information on the EIS, contact Mr. Scott Richardson, U.S. Fish and Wildlife Service, Tucson Suboffice, 201 N. Bonita Ave., Suite 141, Tucson, Arizona 85745, at 520-670-6150 x 242.

For further information on the HCP, contact Ms. Jennifer Christelman, Town of Marana, 11555 W. Civic Center Dr., Marana, Arizona 85653 or Ms. Lori Woods, RECON, 525 West Wetmore Road, Suite 111, Tucson, Arizona 85705.

Information regarding the HCP can also be obtained on the Internet at http://www.marana.com/hcp.

SUPPLEMENTARY INFORMATION: This notice advises the public that the Service intends to gather information necessary to determine the impacts and formulate alternatives for the EIS related to the issuance of a proposed ITP to the Town of Marana and the development and implementation of the HCP, which will provide measures to minimize and mitigate the effects of incidental take of federally listed species.

Section 9 of the Act and its implementing regulations prohibit the “taking” of threatened and endangered species. However, the Service, under limited circumstances, may issue permits to take listed wildlife species incidental to, and not the purpose of, otherwise lawful activities.

We provide this notice under section 10(c) of the Act (16 U.S.C. 1531 et seq.) and its implementing regulations (50 CFR 17.22), and the National Environmental Policy Act (42 U.S.C. 4371 et seq.) (NEPA) and its implementing regulations (40 CFR 1506.6).

Background: The Town of Marana in southern Arizona, including its recent annexation of 21,500 acres of State Trust lands along the Tortolita Fan, contains unique natural resource values within much of its undeveloped lands, including ironwood-dominated Arizona Upland and xeroriparian plant communities along the bajadas (fans) and slopes of the Tortolita Mountains and along portions of the Santa Cruz River Corridor.

The Town of Marana is also one of the fastest growing communities in Arizona and recognizes the need to provide a solid economic base and desirable quality of life for its citizens. Given the Town of Marana's rapid growth rate and desire to develop its economic interests, the Town leaders have acknowledged the need to balance economic, environmental, and human interests by implementing a community-wide conservation planning effort. The overall goals of this conservation planning effort are to: identify federal, State Trust, county, and private lands that merit inclusion within a scientifically-based conservation reserve designed to provide long-term protection for multiple species of concern and key natural communities; identify appropriate mechanisms to best conserve these lands over the long-term; provide for regional economic objectives including the orderly and efficient development of certain private and State Trust lands and associated public and private infrastructure; contribute to regional conservation planning efforts in eastern Pima County; and facilitate compliance with the Act's Section 10(a)(1)(B) permit requirements.

Purpose and Need for Action

The purpose for which this EIS is being prepared is to respond to the Town of Marana's application for an ITP for the proposed covered species related to activities that have the potential to result in take of species listed pursuant to the Act. The Town of Marana's proposed HCP will mitigate to the maximum extent practicable the anticipated effects of the covered activities, while striving to balance the protection and conservation of Marana's unique natural resources with on-going economic development and urbanization. The Town of Marana recognizes that the quality of life of its citizens is dependent upon an integrated environment which balances the needs of listed species and their habitats with human needs. The HCP will protect and conserve the covered species and their habitats for the continuing benefit of the people of the United States and provide a means and take steps to conserve the ecosystems depended on by the covered species. The HCP will ensure the long-term survival of the covered species through protection and management of the species and their habitats and ensure compliance with the Act, NEPA, and other applicable laws and regulations.

The need for this action is based on the potential that activities proposed by the Town of Marana on lands under their jurisdiction could result in take of covered species, thus requiring an ITP. The proposed permit would allow approved incidental take that is consistent with the conservation guidelines in the Town of Marana's HCP.

Section 10(a)(1)(B) of the Act contains provisions for issuing ITPs to non-federal entities for take of endangered and threatened species, provided the following criteria are met: The taking will be incidental; the applicant will, to the maximum extent practicable, minimize and mitigate the impact of such taking; the applicant will ensure that adequate funding for the Plan will be provided; the taking will not appreciably reduce the likelihood of the survival and recovery of the species in the wild; and any other measures that the Service may require as being necessary or appropriate for the purposes of the HCP. The development and implementation of the HCP will ensure that the Town of Marana meets the provisions for issuance of the ITP.

Proposed Action

The proposed action is the issuance of an ITP for listed and sensitive species in Pima County, pursuant to section 10(a)(1)(B) of the Act. The Town of Marana will develop and implement the HCP, as required by section 10(a)(2)(A) of the Act. The HCP will provide measures to minimize and mitigate the effects of the taking on listed and sensitive species and their habitats. The biological goal of the HCP is to provide long-term protection for multiple species of concern and key natural communities through maintaining or improving the habitat conditions and ecosystem functions necessary for their survival and to ensure that any incidental take of listed species will not appreciably reduce the likelihood of the survival and recovery of those species.

The purpose of the scoping meetings are to brief the public on the background of the HCP, alternative proposals under consideration for the draft EIS, and the Service's role, as well as the steps that we will take to develop the draft EIS for this conservation planning effort. At the scoping meeting, there will be an opportunity for the public to ask questions and also to provide written comments.

Activities proposed for coverage under the proposed ITP include lawful activities that would occur consistent with the Town of Marana's General Plan and include, but are not limited to, maintenance of Town's operations, implementation of capital improvement projects, and issuance of land-use related permits, including those for residential and commercial development.

The Town of Marana is expected to apply for an ITP for 13 vulnerable species that would be protected within the proposed permit area. The 13 species include the federally listed lesser long-nosed bat (Leptonycteris curasoae yerbabuenae) and the federally listed southwestern willow flycatcher (Empidonax traillii extimus). In addition, the Town of Marana will seek to address and cover the yellow-billed cuckoo (Coccyzus americanus spp. Occidentalis), a candidate for listing. The Town of Marana is also seeking to address and cover additional rare and/or sensitive species that occur within the planning area, including the cactus ferruginous pygmy-owl (Glaucidium brasilianum cactorum), lowland leopard frog (Rana yavapaiensis), talus snails (Sonorella spp.), Tucson shovel-nosed snake (Chionactis occipitalis klauberi), ground snake (Sonora semiannulata), Sonoran desert tortoise (Gopherus agassizii), Merriam's mouse (Peromyscus merriami), Mexican garter snake (Thamnophis eques megalops), burrowing owl (Athene cunicularia), and the pale Townsend's big-eared bat (Corynorhinus townsendii). Unlisted species included in the list above that are considered as if they were listed, and that the Service finds are adequately conserved by the HCP, will be automatically permitted for incidental take should they be listed as federally threatened or endangered species in the future. Numerous other listed and sensitive species for which the Town of Marana is not seeking permit coverage will also benefit from the conservation measures provided in the HCP through protection of similar or overlapping habitat conditions and ecosystem functions.

Alternatives—The proposed action and alternatives that will be developed in the EIS will be assessed against the No Action/No Project alternative, which assumes that some or all of the current and future projects proposed in the Town of Marana would be implemented individually (i.e, one at a time), and be in compliance with the Act.

The No Action/No Project alternative implies that the impacts from these potential projects on sensitive species and habitats would be evaluated and mitigated on a project-by-project basis, as is currently the case. For any activities involving take of listed species due to non-Federal projects/actions, individual Section 10(a)(1)(B) permits would be required. A coordinated, comprehensive ecosystem-based conservation approach for the region would not be developed to more efficiently address the conservation of listed species, and unlisted candidate and sensitive species would not receive proactive action intended to preclude the need to list them in the future. A landscape level approach to conservation and mitigation would not occur to help Federal and non-Federal agencies work toward recovery of listed species. Current independent conservation actions would continue, although some of these are not yet funded.

Other alternatives that may be considered in the EIS include issuance of an incidental take permit for some subset of proposed covered species and/or covered activities. Voluntary participation in the HCP to obtain ITP coverage for certain private development actions that have no further discretionary action by Marana is being considered. In addition, alternatives may consider varying levels of take anticipated and amount, type, and location of mitigation.

Additional Information: The Service anticipates that the Town of Marana will request a permit duration of 25 years. Implementation of the HCP will result in the establishment of measures that will provide for the conservation of covered species and their habitats in perpetuity. Monitoring and adaptive management will be used to facilitate the accomplishment of these measures.

We will conduct an environmental review that analyzes the proposed action, as well as a range of reasonable alternatives and the associated impacts of each. The EIS will be the basis for the Service's evaluation of impacts to the species and the range of alternatives to be addressed. The EIS is expected to provide biological descriptions of the affected species and habitats and an analysis of the socioeconomic effects of the proposed action.

After the environmental review is complete, we will publish a notice of availability and a request for comment on the draft EIS, draft HCP, and the Town of Marana's permit application. The draft EIS is expected to be completed and available to the public by December 2008.

C. Todd Jones,
Acting Regional Director, Region 2, Albuquerque, New Mexico.

[FR Doc. E7-12009 Filed 6-20-07; 8:45 am]

BILLING CODE 4510-55-P